DEPARTMENT OF TRANSPORTATION

Office of the Secretary

Application of Lynx Aviation, Inc., d/b/a Frontier Airlines, for Certificate Authority

AGENCY: Office of the Secretary, Department of Transportation.

ACTION: Notice of Order to Show Cause (Order 2007-5-2), Docket OST-2007-27074.

SUMMARY: The Department of Transportation is directing all interested persons to show cause why it should not issue an order finding Lynx Aviation, Inc., d/b/a Frontier Airlines, fit, willing, and able, and awarding it a certificate of public convenience and necessity to engage in interstate scheduled air transportation of persons, property, and mail.

DATES: Persons wishing to file objections should do so no later than May 18, 2007.

ADDRESSES: Objections and answers to objections should be filed in Docket OST-2007-27074 and addressed to U.S. Department of Transportation, Docket Operations, (M-30, Room PL-401), 400 Seventh Street, SW., Washington, DC 20590, and should be served upon the parties listed in Attachment A to the order.

FOR FURTHER INFORMATION CONTACT: Vanessa R. Balgobin, Air Carrier Fitness Division (X-56, Room 6401), U.S. Department of Transportation, 400 Seventh Street, SW., Washington, DC 20590, (202) 366-9721.

Dated: May 4, 2007.
Robert S. Goldner,
Special Counsel.

[FR Doc. E7-8997 Filed 5-9-07; 8:45 am]

BILLING CODE 4910-9X-P